DEPARTMENT OF COMMERCE

Foreign-Trade Zones Board

[Order No. 1123]

Approval for Expanded Manufacturing Authority; (Automobile Transmissions) Within Foreign-Trade Subzone 229A; Toyota Motor Manufacturing West Virginia, Inc., Buffalo, West Virginia

Pursuant to its authority under the Foreign-Trade Zones Act of June 18, 1934, as amended (19 U.S.C. 81a-81u), the Foreign-Trade Zones Board (the Board) adopts the following Order:

Whereas, the West Virginia Economic Development Authority, grantee of FTZ 229, has requested authority on behalf of Toyota Motor Manufacturing West Virginia, Inc. (TMMWV), operator of FTZ 229A, at the TMMWV automobile engine manufacturing plant in Buffalo, West Virginia, to expand the scope of authority to include the manufacture of automobile transmissions under FTZ procedures within Subzone 229A (FTZ Doc. 52-99, filed 10-25-99);

Whereas, notice inviting public comment was given in the Federal Register (64 FR 59160, 11-2-99);

Whereas, the Board adopts the findings and recommendations of the examiner's report, and finds that the requirements of the FTZ Act and the Board's regulations are satisfied, and that approval of the application is in the public interest;

Now Therefore, the Board hereby approves the request subject to the FTZ Act and the Board's regulations, including § 400.28.

Signed at Washington, DC, this 24th day of October 2000.
Troy H. Cribb,
Acting Assistant Secretary of Commerce for Import Administration, Alternate Chairman, Foreign-Trade Zones Board.
Attest:
Dennis Puccinelli,
Executive Secretary.

[FR Doc. 00-28286 Filed 11-2-00; 8:45 am]

BILLING CODE 3510-DS-P